DEPARTMENT OF AGRICULTURE

Food Safety and Inspection Service

[FDMS Docket No. FSIS-2006-0004]

International Standard-Setting Activities

AGENCY: Food Safety and Inspection Service, USDA.

ACTION: Notice.

• SUMMARY: This is an attachment that was inadvertently left out of the notice that published on June 6, 2006. (71 FR 32504). For the readers convenience this goes with Attachment 1.

FOR FURTHER INFORMATION CONTACT: F. Edward Scarbrough, PhD, United States Manager for Codex, U.S. Department of Agriculture, Office of the Under Secretary for Food Safety, Room 4861, South Agriculture Building, 1400 Independence Avenue, SW., Washington, DC 20250-3700; (202) 205-7760. For information pertaining to particular committees, the delegate of that committee may be contacted. (A complete list of U.S. delegates and alternate delegates can be found in Attachment 2 to this notice.)

Done in Washington, DC: June 6, 2006.
Mary Ann Riley,
FSIS, Liaison Officer.

Codex Committee on Food Additives and Contaminants

The Codex Committee on Food Additives and Contaminants (CCFAC) (a) establishes or endorses permitted maximum or guideline levels for individual food additives, contaminants, and naturally occurring toxicants in food and animal feed; (b) prepares priority lists of food additives and contaminants for toxicological evaluation by the Joint FAO/WHO Expert Committee on Food Additives (JECFA); (c) recommends specifications of identity and purity for food additives for adoption by the Commission; (d) considers methods of analysis for food additive and contaminants; and (e) considers and elaborates standards and codes for related subjects such as labeling of food additives when sold as such and food irradiation. The following matters are under consideration by the Commission at its 29th Session in July 2006. The relevant document is ALINORM 6/29/12.

• Revised Terms of Reference on the Codex Committee on Food Additives and Contaminants.

Food Additives

To be considered at Step 8:

• General Standard for Food Additives (GSFA): Draft Food Additive Provisions in Tables 1 and 2.

• Draft Revised Preamble to the GSFA.

To be considered at Step 5/8:

• General Standard for Food Additives: Proposed Draft Food Additive Provisions in Tables 1, 2 and 3.

• Advisory Specifications for the Identity and Purity of Food Additives.

• Proposed Draft Revisions to the Codex International Numbering System for Food Additives.

To be considered for Revocation and Discontinuation of work:

• Proposed Draft and Draft Food Additive Provisions in the GSFA.

To be considered for New Work:

• Guidelines for the use of flavoring agents.

The Committee is continuing work on:

• General Standard for Food Additives: Draft Food. Additive Provisions (in Tables 1, 2, and 3)

• International Numbering System.

• Specifications for the Identity and Purity of Food Additives.

• Inventory of Processing Aids.

Contaminants

To be consideredat Step 8:

• Maximum Level for Lead of 0.3 mg/kg in Fish.

• Maximum Levels for Cadmium in polished rice of 0.4 mg/kg, and in marine bivalve mollusks (excluding oysters and scallops) and in cephalopods (without viscera) of 2 mg/kg.

To be consideredat Step 5/8:

• Proposed Amendment to the Preamble of the Codex General Standard for Contaminants and Toxins in Foods (GSCTF).

• Proposed Draft Appendix to the Codex Code of Practice for the Prevention and Reduction of Aflatoxin Contamination in Tree Nuts to address additional measures for the prevention and reduction of aflatoxin in Brazil nuts.

• Proposed Draft Code of Practice for the Prevention and Reduction of Dioxin and Dioxin-like PCB Contamination in Foods and Feeds.

• Proposed Draft Guidelines Levels for Radionuclides in Foods Contaminated Following a Nuclear or Radiological Emergency for Use in International Trade.

To be consideredat Step 5:

• Proposed Draft Maximum Level for Aflatoxin in ready-to-eat almonds, hazelnuts and pistachios.

• Proposed Draft Maximum Levels for Tin of 250 mg/kg in canned foods other than beverages, and 150 mg/kg in canned beverages.

To be consideredfor New Work:

• To revise the Preamble of the GSCTF to remove the procedural provisions; to include them in the Procedural Manual; to amend the complementary food categorization system for the GCSFT; to align the language of the Preamble with the definitions contained in the Procedural Manual; to update the provision in the Procedural Manual regarding toxins.

• Elaboration of a Code of Practice for the Reduction of Acrylamide in Food.

• Elaboration of a Code of Practice for the Reduction of Polycyclic Aromatic Hydrocarbons in Food.

• Elaboration of a Code of Practice for the Prevention and Control of Ochratoxin A Contamination in Wine.

The Committee is continuing work on:

• Maximum levels for aflatoxin in almonds, hazelnuts, and pistachios for further processing.

• Discussion Paper of Aflatoxin Contamination in Brazil Nuts.

• Proposed draft sampling plan for Aflatoxin Contamination in Almonds, Brazil nuts, Hazelnuts and Pistachios.

• Discussion paper on Deoxynivalenol (DON).

• Discussion paper on Ochratoxin A Contamination in Coffee.

• Discussion paper on Ochratoxin A Contamination in Cocoa.

• Proposed Draft maximum levels for 3-monochloropropanediol (3-MCPD) in liquid condiment containing HVPs.

• Proposed Draft Code of Practice for the Reduction of Chloropropanols during the Production of Acid Hydrolized Vegetable Protein (HVP) and Products that Contain Acid HVP.

• Discussion paper on Methylmercury in Fish.

• Discussion paper on Aflatoxins in Dried Figs.

General Issues

• Priority List of Food Additives, Contaminants and Naturally Occurring Toxicants Proposed for Evaluation by JECFA.

Responsible Agency: HHS/FDA.

U.S. Participation: Yes.

[FR Doc. E6-9050 Filed 6-8-06; 8:45 am]

BILLING CODE 3410-DM-P